DEPARTMENT OF HOMELAND SECURITY

Coast Guard

33 CFR Part 117

[Docket No. USCG-2016-0099]

Drawbridge Operation Regulation; Hackensack River, Kearney, NJ

AGENCY: Coast Guard, DHS.

ACTION: Notice of deviation from drawbridge regulation.

SUMMARY: The Coast Guard has issued a temporary deviation from the operating schedule that governs the Amtrak Portal Bridge across the Hackensack River, mile 5.0, at Kearney, New Jersey. This deviation is necessary to allow the bridge owner to perform structural repairs at the bridge.

DATES: This deviation is effective from 10 p.m. on February 26, 2016 to 5 a.m. on February 28, 2016.

ADDRESSES: The docket for this deviation, [USCG-2016-0099] is available at http://www.regulations.gov. Type the docket number in the “SEARCH” box and click “SEARCH”. Click on Open Docket Folder on the line associated with this deviation.

FOR FURTHER INFORMATION CONTACT: If you have questions on this temporary deviation, call or email Joe M. Arca, Project Officer, First Coast Guard District, telephone (212) 514-4336, email joe.m.arca@uscg.mil.

SUPPLEMENTARY INFORMATION: The Amtrak Portal Bridge across Hackensack River, at Kearney, New Jersey, has a vertical clearance in the closed position of 23 feet at mean high water and 28 feet at mean low water. The existing bridge operating regulations are found at 33 CFR 117.723(e).

The waterway is transited by seasonal recreational vessels of various sizes. There is one sewage facility upstream of the bridge that transits the bridge twice a week.

The bridge owner, AMTRAK, requested a temporary deviation from the normal operating schedule to facilitate structural repairs at the bridge.

Under this temporary deviation, the Amtrak Portal railroad bridge shall remain in the closed position from 10 p.m. on February 26, 2016 to 5 a.m. February 28, 2016.

Vessels able to pass under the bridge in the closed position may do so at any time. The bridge will not be able to open for emergencies and there is no immediate alternate route for vessels to pass.

The Coast Guard will inform the users of the waterways through our Local Notice and Broadcast to Mariners of the change in operating schedule for the bridge so that vessel operations can arrange their transits to minimize any impact caused by the temporary deviation.

In accordance with 33 CFR 117.35(e), the drawbridge must return to its regular operating schedule immediately at the end of the effective period of this temporary deviation. This deviation from the operating regulations is authorized under 33 CFR 117.35.

Dated: February 11, 2016.
C.J. Bisignano,
Supervisory Bridge Management Specialist, First Coast Guard District.

[FR Doc. 2016-03148 Filed 2-16-16; 8:45 am]

BILLING CODE 9110-04-P